DEPARTMENT OF COMMERCE

Bureau of the Census

15 CFR Part 30

[Docket Number: 151222999-7048-02]

RIN 0607-AA55

Foreign Trade Regulations: Clarification on Filing Requirements

AGENCY: Bureau of the Census, Commerce Department.

ACTION: Final rule.

SUMMARY: The Bureau of the Census (Census Bureau) issues this Final Rule amending the Foreign Trade Regulations (FTR) to reflect new export reporting requirements. Specifically, the Census Bureau is making changes related to the implementation of the International Trade Data System (ITDS), in accordance with the Executive Order 13659, Streamlining the Export/Import Process for American Businesses. The ITDS was established by the Security and Accountability for Every (SAFE) Port Act of 2006. The changes also include the addition of the original Internal Transaction Number (ITN) data element in the Automated Export System (AES). Lastly, the Census Bureau is making remedial changes to improve clarity of the reporting requirements. These changes are discussed in detail in the SUPPLEMENTARY INFORMATION section.

DATES: This Final Rule is effective July 18, 2017.

FOR FURTHER INFORMATION CONTACT: Dale C. Kelly, Chief, International Trade Management Division, U.S. Census Bureau, Washington, DC 20233-6010, by phone: (301) 763-6937, by fax: (301) 763-8835, or by email: dale.c.kelly@census.gov.

SUPPLEMENTARY INFORMATION:

Background

The Census Bureau is responsible for collecting, compiling, and publishing trade statistics for the United States under the provisions of Title 13 of the United States Code (U.S.C.), Chapter 9, Section 301. The International Trade Data System (ITDS) is the means by which the data and business process needs of all Government agencies with a role in international trade will be incorporated into the design of the Automated Commercial Environment (ACE). Through the ITDS initiative, ACE will become the “single window,” the primary system through which the international trade community will submit import and export data and documentation required by all Federal agencies.

The Automated Export System (AES), or any successor system, is the mechanism by which the Census Bureau collects Electronic Export Information (EEI), the electronic equivalent of the export data formerly collected on the Shipper's Export Declaration, reported pursuant to Title 15, Code of Federal Regulations (CFR), Part 30. In order to achieve the goals of the ITDS, the AES has been incorporated into ACE, the “single window” operated and maintained by U.S. Customs and Border Protection (CBP) as the primary system through which the international trade community will submit import and export data. Additionally, the AES will include export information collected under the authority of other federal agencies, which is subject to those agencies' disclosure mandates.

The Census Bureau is adding a new original Internal Transaction Number (ITN) data element. The original ITN is an optional data element that can be used if a previously filed shipment is replaced or divided and for which a new EEI record(s) must be filed. The addition of the original ITN will assist the export trade community and enforcement agencies in verifying that a filer completed the mandatory filing requirements for the original shipment and any additional shipment(s).

The revised timeframes for split shipments addressed in FTR Letter #6, Notice of Regulatory Change for Split Shipments, are incorporated into the regulatory text of this final rule.

Finally, the U.S. Department of Homeland Security and the U.S. Department of State concur with the revisions to the FTR as required by Title 13, U.S.C., Section 303, and Public Law 107-228, div. B, title XIV, Section 1404.

Response to Comments

The Census Bureau received 20 letters and emails commenting on the Notice of Proposed Rulemaking (NPRM) published in the Federal Register on March 9, 2016 (81 FR 12423). A summary of the comments and the Census Bureau's responses are provided below.

The major concerns were as follows:

1. Amend the Foreign Trade Regulations (FTR) to replace the term “Authorized agent” with “Authorized filing agent.” One commenter suggested that replacing “Authorized agent” with “Authorized filing agent” would add clarity for the industry and make a distinction between the authorized agent for Bureau of Industry and Security (BIS) purposes and Census Bureau purposes. The FTR provides guidance on export reporting and filing requirements as it pertains to the Automated Export System (AES) and not licensing requirements for other agencies. Therefore, the Census Bureau has reviewed this recommendation and determined that the current language remains appropriate.

2. Amend the definition of “Filer” to specify which entity approves the filer to submit Electronic Export Information (EEI). One commenter stated that the proposed definition of “Filer” is unclear as to who approves the U.S. Principal Party in Interest (USPPI) or authorized agent to file the EEI. The Census Bureau uses the definition section to clarify how terms are used in the FTR rather than to provide instructions. In addition, the proposed definition specifically was revised to make the reference to the USPPI and authorized agent singular. Therefore, the Census Bureau has reviewed the definition and the proposed language remains appropriate.

3. Amend the proposed rule to retain the definition of “Non Vessel Operating Common Carrier (NVOCC)”, as well as include NVOCC in the “Carrier” definition. One commenter suggested to keep the NVOCC definition in the FTR and to revise the “Carrier” definition to reference NVOCCs. The Census Bureau has reviewed this section and the proposal to remove the NVOCC definition remains appropriate. However, the Census Bureau agrees that the carrier definition should be revised to reference NVOCCs because the Automated Export System Trade Interface Requirements (AESTIR) allows the Standard Carrier Alpha Code of a NVOCC to be reported.

4. Amend the proposed rule to remove the language, “except as noted by the State Department Regulations” in § 30.2(a)(1)(iv)(C). One commenter was concerned that the proposed language requires the filer to reference the Department of State regulations for exceptions to the filing requirements for goods subject to the International Traffic in Arms Regulations (ITAR). They suggested that this proposal is problematic in that the forwarder or authorized filing agent needs an exemption legend for the carrier to denote these types of shipments. Another commenter was concerned that adding the language to reference the Department of State regulations would require a forwarder's employees to be familiar with a wide array of regulations issued by other agencies, as opposed to familiarizing themselves with only the FTR. The commenter suggested revising the FTR to list all exceptions from filing requirements noted in all relevant regulations issued by the federal government, including the Department of State. The Census Bureau recognizes it may be convenient for the Foreign Trade Regulations (FTR) to specifically identify other agencies' regulations. However, it is not feasible for the Census Bureau to ensure every agency's regulatory export requirements are included in the FTR. Therefore, it is imperative for the trade community to be familiar with all applicable export regulations that impact their transaction. The language at issue is being added to ensure consistency with the State Department regulations. The Census Bureau does not want to require mandatory reporting if the State Department regulations exempt EEI filing; therefore, the proposed language remains appropriate.

5. Amend the proposed rule to add language requiring the filer name, address, filer ID and shipment reference number (SRN) be provided to the USPPI upon request in a routed export transaction. One commenter suggested that the filer name, address, filer ID and SRN be provided to the USPPI in the Automated Commercial Environment (ACE) USPPI Agent-Filed Routed Transactions Report (ACE 203 Report). The additional information would help the USPPI identify the appropriate company to contact if there are questions about the data. The Census Bureau acknowledges that providing the data elements proposed by the commenter in addition to the data elements proposed in the NPRM would assist the trade community in more effectively utilizing the ACE 203 Report. Therefore, the Census Bureau has revised § 30.3(e)(2) to include the filer name in addition to the date of export and Internal Transaction Number (ITN) as proposed in the NPRM. However, the filer address, filer ID, and SRN will not be added at this time to allow the Census Bureau to obtain additional feedback through a future NPRM to assess the impact of those changes.

6. Clarify the filing requirements for in-transit shipments between the United States and Puerto Rico. One commenter suggested that § 30.4(b)(3) be revised to clarify the filing requirements regarding in-transit shipments that pass through the United States en route to Puerto Rico or vice versa. The Census Bureau has reviewed this section and the current language remains appropriate because in-transit shipments under bond are excluded per § 30.2(d)(1) and § 30.2(a)(1) establishes the filing requirements.

7. Clarify who should be reported as the USPPI contact in an export transaction. One commenter asked if generic entries such as “Export Department” or “Shipping Department” are valid entries for the USPPI contact information per § 30.6(a)(1)(iv). The Census Bureau expects that using the word “person” in the proposed definition, and by not referring to a “legal entity”, the filer understands the contact information must include the name of the person who has the most knowledge regarding the specific shipment or related export controls instead of a group or department. Therefore, the Census Bureau has reviewed this section and the proposed language remains appropriate.

8. Amend the proposed rule to make the Export Control Classification Number (ECCN) a mandatory data element. One commenter suggested that the ECCN should be required for all shipments because it is necessary to determine if a shipment requires a license from the Bureau of Industry and Security (BIS). The Census Bureau has reviewed this section and provided the comment to the BIS to evaluate the feasibility of adding this requirement to the Export Administration Regulations (EAR). The Census Bureau determined that the ECCN will remain a conditional data element as outlined in § 30.6(b)(6) of the FTR. Therefore, the current language remains appropriate.

9. Amend the proposed rule to include a 7 day timeframe for split shipments by vessel. One commenter suggested that the split shipment timeframe for vessel shipments should be changed from 24 hours to 7 days as will be allowed for air, truck, or rail shipments pursuant to § 30.28. The Census Bureau conferred with members of the vessel industry and U.S. Customs and Border Protection, who indicated that the 24 hour timeframe is sufficient to submit the required information for vessel shipments. As a result, the proposed language remains appropriate.

10. Amend the proposed rule to retain the language outlining the filing procedures for succeeding parts of a split shipment. One commenter suggested that the Census Bureau retain the current language in § 30.28(c) to ensure that it is clear that succeeding parts of a split shipment do not require an additional EEI record. The Census Bureau has reviewed this section and determined that this language should be retained. As a result, the Census Bureau has added language to the opening paragraph of § 30.28 to clarify the filing requirements.

11. Clarify the proper use of the original ITN data element for the trade community and CBP. One commenter suggested that detailed guidance be provided to CBP ports regarding the use of the original ITN, specifically as it pertains to the issuance of penalties related to split shipments. Another commenter requested that additional examples be provided to understand the exact purpose of the new data element. The Census Bureau has reviewed the recommendations and determined the proposed regulations remain appropriate. In addition, the Census Bureau will conduct extensive outreach and add Frequently Asked Questions with specific examples of the proper use of the original ITN to ensure the trade community and CBP understand the intended purpose.

12. Amend the proposed rule to clarify the license value reporting requirements for repairs and replacements that are subject to the ITAR. One commenter stated that ITAR controlled goods imported for repair are eligible for a license exemption and therefore, a license value cannot be reported. The Census Bureau has reviewed this section and agrees that goods exported under a license exemption do not require a license value to be reported. As a result, the Census Bureau has added language to § 30.29(a)(2) to clarify the license value is only required for licensed shipments.

13. Amend the proposed rule to clarify the term “Commercial document” and to remove the reference to the license value reporting requirements. One commenter questioned whether the term “commercial document” referenced in § 30.29(b)(2) included bills of lading and suggested adding language to clarify. In addition, the commenter requested that the reference to § 30.6(b)(15) be removed. The Census Bureau has reviewed § 30.29(b)(2) and replaced “commercial document” with “commercial loading documents” because this defined term includes the bill of lading. With regards to removing the reference to § 30.6(b)(15), the current proposed language remains appropriate as this sentence is specifically referring to licensed goods by a U.S. government agency.

14. Amend the FTR to revise and/or remove Appendices. One commenter suggested revising Appendix B of the FTR to include all license type codes by either updating the list or referencing Appendix F of the AESTIR. They also suggested removing Appendix F of the FTR because it is no longer necessary. Another commenter suggested revising the title of Appendix D of the FTR. The Census Bureau has reviewed all of the Appendices and agrees that several need to be revised or removed. The Appendices were initially created to assist with the transition from the Foreign Trade Statistics Regulations to the FTR. Given that this transition occurred in 2008, several Appendices are no longer necessary. The Census Bureau has reviewed the appendices and is removing Appendices B, C, E, and F, while revising and redesignating Appendix D as the new Appendix B.

15. Amend the proposed rule to remove the requirement to report the used electronics indicator (UEI). Several commenters expressed multiple concerns pertaining to the addition of the UEI. The following concerns were expressed in the comments received.

(a) The requirement to report the UEI is not mandated, or justified by the authorities cited. The National Strategy for Electronics Stewardship, Resource Conservation and Recovery Act (RCRA), and Executive Order (EO) 13693 were all cited in the NPRM; however, these legal authorities and directives do not align with the stated purpose for collecting the UEI.

(b) The addition of the UEI will increase reporting burden for the trade community. The NPRM did not appear to give a thorough review of the impact of burden to the trade community under the Regulatory Flexibility Act and the Paperwork Reduction Act.

(c) The definition is overly broad for used electronics and goes beyond the purpose of tracking electronics for “disposal,” as cited in the RCRA and EO 13693.

(d) The filing requirements for the UEI are unclear as it pertains to reporting repairs, temporary exports, and shipments containing both new and used electronics.

(e) The NPRM does not indicate what confidential data elements from the EEI will be shared with the Environmental Protection Agency (EPA).

(f) The requirement for the UEI lacks any reasonable justification to make a distinction between operable used electronics and new electronics when reporting EEI.

(g) The UEI will impose excessive costs associated with the implementation of new processes and related system changes. The timeframe to complete the programming changes will be very significant and will require an extended implementation period.

(h) Information related to used electronics could be obtained via commodity classification numbers and/or via ACE reports as opposed to increasing the burden on the trade by requiring the UEI.

The Census Bureau acknowledges these concerns and held multiple discussions with the U.S. Environmental Protection Agency. The comments received reflected concerns about the clarity of and the burden related to the proposed requirement. At this time, the Census Bureau has decided to eliminate the requirement to report used electronics in the Final Rule.

16. Amend the proposed rule to divide the AES certification and filing requirements into two sections. One commenter suggested that the AES certification and filing requirements should be divided into two sections in order to add clarity. The Census Bureau has reviewed § 30.2(c) and agrees dividing the section based on the filing method, AESDirect or methods other than AESDirect, will add clarity. The Census Bureau also provided additional details to clarify when the certification process is required.

17. Amend the proposed rule to add the definition of “U.S. Postal Service customs declaration form” and incorporate this term in multiple definitions. One commenter suggested that the definitions of “AES downtime filing citation,” “Annotation,” “Exemption legend,” “Postdeparture filing citation,” and “Proof of filing citation” should specifically reference the “U.S. Postal Service customs declaration form” in order to add clarity. The Census Bureau has reviewed § 30.1(c) and agrees a definition for “U.S. Postal Service customs declaration form” should be added. In addition, rather than including a reference to the “U.S. Postal Service customs declaration form” in the definitions proposed by the commenter, the Census Bureau has added this term to the “Commercial loading document” definition.

18. Amend the proposed rule to more accurately reflect U.S. Postal Service operations. One commenter suggested that § 30.8(a) be revised to reference mail exports, the U.S. Postal Service customs declaration, and the Postal Service instead of the postmaster. The Census Bureau has reviewed this section and incorporated the recommendations of the commenter.

19. Amend the proposed rule to add clarity to the term “mail cargo” and “filing citation or exemption legend.” One commenter proposed revisions to the phrases “mail cargo” and “filing citation or exemption legend.” The Census Bureau has reviewed § 30.4(b)(2)(v) and agrees to revise this section to read “mail” rather than “mail cargo.” In addition, the phrase “filing citation or exemption legend” will be revised to read “proof of filing citation, postdeparture filing citation, AES downtime filing citation, exemption or exclusion legend.” The distinction between exemption legends and exclusion legends is made because the terms are not mutually exclusive. A shipment may contain items that do not require filing per an exemption and exclusion.

20. Amend the proposed rule to clarify the exemptions for Country Group E:1. One commenter suggested that § 30.37(y) be revised to remove paragraphs 1-6 and replace this section with a general exemption for Country Group E:1 with a reference to both the Bureau of Industry and Security (BIS) and Office of Foreign Assets Control (OFAC). In addition, the commenter proposed including references to Country Group E:2 with all references to Group E:1 to ensure consistency with the Export Administration Regulations (EAR). The Census Bureau has consulted with the BIS on the relevant sections and agrees that Country Group E:2 should also be referenced. In regards to significantly revising § 30.37(y), the Census Bureau will work with BIS and OFAC to ensure consistency amongst the various regulations and, if the Census Bureau deems necessary, will propose any changes in a future NPRM in order to afford the public the ability to comment on any potential changes to the filing requirements.

21. Comments in Support of the Final Rule. Several commenters expressed support of the changes proposed in the NPRM.

(a) A commenter supported the proposed amendments and suggested that the rule pass because the changes would add clarity to the regulations, improve the quality of trade data, and contribute to a stronger International Trade Data System.

(b) One commenter supported the revisions to filing deadlines for pipeline shipments, as stated in § 30.4(c)(2) and § 30.6(a)(5), because it will add clarity to the current regulations and is consistent with the filing conventions that have been agreed to as part of the trade working group with the Census Bureau.

(c) Several commenters supported the addition of the original ITN field because of the clarity it will provide when an entity needs to provide the ITN associated with a previously filed shipment that is replaced or divided and for which additional shipment(s) must be filed.

Changes to the Proposed Rule Made by This Final Rule

After consideration of the comments received, the Census Bureau revised and added certain provisions in the Final Rule to address the concerns of commenters and to clarify the requirements of the rule. The changes made in this Final Rule are as follows:

• Amend the proposed rule to remove the definition and filing requirement for the used electronics indicator.

• Section 30.1(c) is amended to revise the definition of “Carrier” to include a Non Vessel Operating Common Carrier (NVOCC) as an example of a carrier because the Automated Export System Trade Interface Requirements allows the Standard Carrier Alpha Code of a NVOCC to be reported.

• Section 30.1(c), is amended to add the definition of “U.S. Postal Service customs declaration form” to identify the shipment document used for exports by mail.

• Section 30.1(c), is amended to revise the definition of “Commercial loading document” to include the U.S. Postal Service customs declaration form as an example of a commercial loading document.

• The note to § 30.2(a)(1)(iv) is amended to add Country Group E:2 to ensure consistency with the Export Administration Regulations (EAR).

• Section 30.2(c) is amended to clarify the application and certification process by dividing the section based on the filing method, AESDirect or methods other than AESDirect. As a result, the title was amended to read as “Application and Certification Process” as opposed to “Certification and Filing Requirements.”

• Section 30.3(e)(2) is amended to add language requiring the authorized agent to provide the filer name in addition to the Internal Transaction Number (ITN) and date of export as proposed in the NPRM, when requested by the U.S. Principal Party in Interest in a routed transaction.

• Section 30.4(b)(2)(v) is amended to read “mail” rather than “mail cargo” and the phrase “filing citation or exemption legend” will be revised to read “proof of filing citation, postdeparture filing citation, AES downtime filing citation, exemption or exclusion legend.”

• Section 30.8(a) is amended to more accurately reflect U.S. Postal Service operations.

• Section 30.16(d) is amended to add Country Group E:2 to ensure consistency with the EAR.

• Section 30.28 is amended to add language removed from 30.28(c) to the opening paragraph.

• Section 30.29(a)(2) is amended by clarifying that a license value is only required to be reported for shipments licensed by a U.S. Government agency.

• Section 30.29(b)(2) is amended to replace the term “commercial document” with the defined term “commercial loading documents”.

• Section 30.37(y) is amended to add Country Group E:2 to ensure consistency with the EAR.

• Delete Appendices B, C, E and F because the Appendices were initially created to assist the trade in transitioning from the Foreign Trade Statistics Regulations (FTSR) to the FTR and are no longer necessary. As a result of deleting Appendices B, C, E, and F, Appendix D is redesignated as Appendix B.

Program Requirements

In addition to the above changes the Census Bureau is amending relevant sections of the FTR in order to comply with the requirements of the Foreign Relations Act, Public Law 107-228. The following sections of the FTR are amended to revise or clarify export reporting requirements and are unchanged from the Notice of Proposed Rulemaking of March 9, 2016, titled Foreign Trade Regulations: Clarification on Filing Requirements (RIN 0607-AA55):

• In § 30.1(c), revise the definition of “AES applicant” to remove the text “applies to the Census Bureau for authorization to” and “or its related applications” because the registration will no longer go through the Census Bureau. Rather, the registration will be submitted to CBP through its Web site or through ACE and will be processed by CBP. In addition, related applications will be eliminated.

• In § 30.1(c), revise the definition of “AESDirect” to clarify the appropriate parties that can transmit Electronic Export Information (EEI) through the AES, clarify that all regulatory requirements pertaining to the AES also apply to AESDirect, and eliminate the reference to the URL.

• In § 30.1(c), revise the definition of “AES downtime filing citation” to remove filing requirements from the definition.

• In § 30.1(c), remove the definition of “AES participant application (APA)” because the APA is no longer used for filers to obtain access to the AES.

• In § 30.1(c), revise the definition of “Annotation” to remove the word “placed” to eliminate the implication of a manual process and add “or electronic equivalent” to allow for an electronic process.

• In § 30.1(c), add the definition of “Automated Commercial Environment (ACE)” to identify the system through which the trade community reports data.

• In § 30.1(c), revise the definition of “Automated Export System (AES)” to clarify that AES is accessed through the Automated Commercial Environment.

• In § 30.1(c), revise the definition of “Bill of lading (BL)” to distinguish between the responsibilities of the carrier and the authorized agent.

• In § 30.1(c), revise the definition of “Container” to make the language consistent with Article 1 of the Customs Convention on Containers.

• In § 30.1(c), remove the definition of “Domestic exports” because this term is not used in the FTR and add the definition of “Domestic goods.”

• In § 30.1(c), revise the definition of “Electronic Export Information (EEI)” to reference the Shipper's Export Declaration itself as opposed to the information collected on the SED.

• In § 30.1(c), revise the definition “Fatal error message” by removing the following sentence to remove the regulatory requirements from the definition: “The filer is required to immediately correct the problem, correct the data, and retransmit the EEI.”

• In § 30.1(c), revise the term “Filers” to “Filer” and revise the definition to reduce redundancy.

• In § 30.1(c), remove the definition of “Foreign exports” because this term is not used in the FTR and add the definition of “Foreign goods.”

• In § 30.1(c), remove the definition for “Non Vessel Operating Common Carrier (NVOCC)” because the term is not referenced in the FTR.

• In § 30.1(c), revise the definition of “Proof of filing citation” by removing the word “placed” to eliminate the implication of a manual process and allow for an electronic process.

• In § 30.1(c), remove the definition of “Reexport” because the term is not used for statistical purposes in the FTR.

• In § 30.1(c), revise the definition of “Service center” to clarify the role of a service center as it pertains to the FTR.

• In § 30.1(c), revise the term “Shipment reference number” to read as “Shipment Reference Number (SRN).”

• In § 30.1(c), revise the definition of “Split shipment” to incorporate the revised timeframes addressed in FTR Letter #6, Notice of Regulatory Change for Split Shipments.

• In § 30.1(c), revise the term “Transportation reference number” to read as “Transportation Reference Number (TRN).”

• Revise § 30.2(a)(1)(iv)(A) to ensure consistency with the Department of Commerce, Bureau of Industry and Security regulations.

• Revise § 30.2(a)(1)(iv)(C) to add language which notes that the filer must reference the Department of State regulations for exceptions to the filing requirements for goods subject to the ITAR.

• Revise § 30.2(b)(3) to remove the reference to “30.4(b)(3)” and add “30.4(b)(4)” in its place.

• Revise § 30.3(e)(2) to add paragraph (xv) “Ultimate consignee type” to clarify that the authorized agent is responsible for reporting the ultimate consignee type in a routed export transaction.

• Revise § 30.4(b)(2)(v) to reference only mail shipments by removing the words “and cargo shipped by other modes, except pipelines” because all other modes are covered in paragraph (vi). In addition, revise language to replace “exporting carrier” with “U.S. Postal Service” and remove the reference to § 30.46 because pipeline language has been added to § 30.4(c)(2).

• Revise § 30.4(b)(3) to indicate that the USPPI or authorized agent must provide the proof of filing citation, postdeparture filing citation, AES downtime citation, exemption or exclusion legend to the carrier.

• Revise § 30.4(c) by removing the introductory text.

• Revise § 30.4 by adding paragraphs (c)(1) to address current postdeparture filing procedures and (c)(2) to address pipeline filing procedures.

• Revise the title of § 30.5 to be “Electronic Export Information filing processes and standards” to accurately reflect the information that remains in this section because the AES application and certification process are removed.

• Revise § 30.5 to remove the introductory text and remove and reserve paragraphs (a) and (b) because the certification process is now addressed in § 30.2(c).

• Remove § 30.5(d)(3) to remove outdated requirements.

• Revise § 30.5(f) to amend outdated information.

• In § 30.6, revise the introductory text to add language indicating that additional elements collected in ITDS are mandated by the regulations of other federal government agencies.

• Revise § 30.6(a)(1) to include the definition of the USPPI for consistency with the format for other data elements.

• Revise § 30.6(a)(1)(iii) to clarify the use of an Employer Identification Number (EIN) and include the Data Universal Numbering System (DUNS) number as an acceptable USPPI ID number.

• Revise § 30.6(a)(1)(iv) to clarify whose contact information should be provided in the AES for the USPPI.

• Revise § 30.6(a)(5)(i) to clarify the country of ultimate destination to be reported with respect to shipments under BIS and State Department export licenses.

• Revise § 30.6(a)(5)(ii) and add paragraphs (A) through (C) to clarify the country of ultimate destination to be reported with respect to shipments not moving under an export license.

• Revise § 30.6(a)(11) by removing paragraphs (i) and (ii) because domestic goods and foreign goods are now included in § 30.1(c) as definitions.

• Revise § 30.6(a)(19) to conform with the revised term “Shipment Reference Number (SRN).”

• Revise the title of § 30.6(b)(14) to conform with the revised term “Transportation Reference Number (TRN).”

• Revise § 30.6(c) to add paragraph (3) to include the original ITN field. Adding the original ITN field will assist the export trade community and enforcement agencies in identifying that a filer completed the mandatory filing requirements for the original shipment and any additional shipment(s).

• Remove § 30.10(a)(1) and (2) because the electronic certification notice is no longer provided.

• In § 30.28, revise the introductory text to incorporate the revised timeframes addressed in FTR Letter #6, Notice of Regulatory Change for Split Shipments.

• Revise § 30.28(a) to allow for an electronic process and incorporate the revised timeframes.

• Revise § 30.28 by removing paragraph (c) because this information is included in the introductory text.

• Revise § 30.29(a)(1) to remove the phrase “non-USML goods” and add the phrase “goods not licensed by a U.S. Government agency and not subject to the ITAR” in its place.

• Revise § 30.29(a)(2) to remove the phrase “USML goods” and add the phrase “goods licensed by a U.S. Government agency or subject to the ITAR” in its place.

• Revise § 30.29(b)(2) to remove the phrase “non-USML” and add the phrase “goods not licensed by a U.S. Government agency in its place.

• Revise § 30.29(b)(2) to remove the phase “USML shipments” and add the phrase “goods licensed by a U.S. Government agency in its place.

• Revise § 30.36(b)(4) to ensure consistency with the Export Administration Regulations.

• Revise the titles to Subpart E and § 30.45, revise paragraphs 30.45(a), (a)(1) and (b), remove and reserve paragraph 30.45(a)(2) and (a)(3), and remove 30.45(c) through 30.45(f) to ensure consistency with the CBP regulations.

• Revise § 30.46 through 30.49 by removing and reserving these sections.

• Revise the introductory text in § 30.50 to replace “Automated Broker Interface (ABI)” with “Automated Commercial Environment (ACE)”.

• Revise the introductory text in § 30.53 to provide more detail for classifying goods temporarily imported for repair and remove paragraphs 30.53(a) and 30.53(b).

• Revise § 30.74 paragraph (c)(5) to indicate the new division name and revise the address.

• Redesignate Appendix D as Appendix B. Revise the title to read “Appendix B to Part 30—AES Filing Citation, Exemption and Exclusion Legends” and remove “I. USML Proof of Filing Citation”, “XII. Proof of filing citations by pipeline”, and renumber remaining entries.

• Revise new Appendix B numbers III and IV to clarify the dates listed in the examples are the dates of export.

• Remove Appendices C through F because they are no longer needed to help transition the trade community from the Foreign Trade Statistics Regulations to the Foreign Trade Regulations.

Classification

Regulatory Flexibility Act

The Chief Counsel for Regulation of the Department of Commerce certified to the Chief Counsel for Advocacy of the Small Business Administration (SBA) that this rule will not have a significant impact on a substantial number of small entities. The factual basis for this determination was published in the proposed rule and is not repeated here. No comments were received regarding this certification. As a result, a regulatory flexibility analysis was not required and none was prepared.

Executive Orders

This rule has been determined to be not significant for purposes of Executive Order 12866. It has been determined that this rule does not contain policies with federalism implications as that term is defined under Executive Order 13132.

Paperwork Reduction Act

Notwithstanding any other provision of law, no person is required to respond to, nor shall a person be subject to a penalty for failure to comply with, a collection of information subject to the requirements of the Paperwork Reduction Act (PRA), unless that collection of information displays a current and valid Office of Management and Budget (OMB) control number. This rule contains a collection-of-information subject to the requirements of the PRA (44 U.S.C. 3501 et seq.) and has been approved under OMB control number 0607-0152.

List of Subjects in 15 CFR Part 30

Economic statistics, Exports, Foreign trade, Reporting and recordkeeping requirements.

For the reasons set out in the preamble, the Census Bureau is amending 15 CFR part 30 as follows:

PART 30—FOREIGN TRADE REGULATIONS

1. The authority citation for part 30 continues to read as follows:

Authority: 5 U.S.C. 301; 13 U.S.C. 301-307; Reorganization plan No. 5 of 1990 (3 CFR 1949-1953 Comp., p. 1004); Department of Commerce Organization Order No. 35-2A, July 22, 1987, as amended, and No. 35-2B, December 20, 1996, as amended; Pub. L. 107-228, 116 Stat. 1350.

2. Amend § 30.1(c) by:

a. Revising the definitions for “AES applicant”, “AESDirect”, and “AES downtime filing citation”;

b. Removing the definition for “AES participant application (APA)”;

c. Revising the definition for “Annotation”;

d. Adding in alphabetical order the definition for “Automated Commercial Environment (ACE)”;

e. Revising the definitions for “Automated Export System (AES)”, “Bill of lading (BL)”, “Carrier”, “Commercial loading document”, and “Container”;

f. Removing the definition for “Domestic exports”;

g. Adding in alphabetical order the definition for “Domestic goods”;

h. Revising the definition for “Electronic export information (EEI)” and “Fatal error message”;

i. Remove the definition for “Filers” and add in its place a definition for “Filer”;

j. Removing the definition for “Foreign exports”;

k. Adding in alphabetical order the definition for “Foreign goods”;

l. Removing the definition for “Non-Vessel Operating Common Carrier”;

m. Revising the definition for “Proof of filing citation”;

n. Removing the definition for “Reexport”;

o. Revising the definitions for “Service center”, “Shipment reference number”, “Split shipment”, and “Transportation reference number”; and

p. Adding in alphabetical order the definition for “U.S. Postal Service customs declaration form”.

The revisions and additions read as follows:

§ 30.1 Purpose and definitions.

* * * * *

(c) * * *

AES applicant. The USPPI or authorized agent who reports export information electronically to the AES, or through AESDirect.

AESDirect. An Internet portal within the Automated Commercial Environment that allows USPPIs and authorized agents to transmit EEI to the AES. All regulatory requirements pertaining to the AES also apply to AESDirect.

AES downtime filing citation. A statement used in place of a proof of filing citation when the AES or AESDirect are inoperable.

* * * * *

Annotation. An explanatory note (e.g., proof of filing citation, postdeparture filing citation, AES downtime filing citation, exemption or exclusion legend) on the bill of lading, air waybill, export shipping instructions, other commercial loading documents or electronic equivalent.

* * * * *

Automated Commercial Environment (ACE). A CBP authorized electronic data interchange system for processing import and export data.

Automated Export System (AES). The system for collecting EEI (or any successor to the Shipper's Export Declaration) from persons exporting goods from the United States, Puerto Rico, or the U.S. Virgin Islands; between Puerto Rico and the United States; and to the U.S. Virgin Islands from the United States or Puerto Rico. The AES is currently accessed through the Automated Commercial Environment.

* * * * *

Bill of Lading (BL). A document that establishes the terms of a contract under which freight is to be moved between specified points for a specified charge. It is issued by the carrier based on instructions provided by the shipper or its authorized agent. It may serve as a document of title, a contract of carriage, and a receipt for goods.

* * * * *

Carrier. An individual or legal entity in the business of transporting passengers or goods. Airlines, trucking companies, railroad companies, shipping lines, pipeline companies, slot charterers, and Non-Vessel Operating Common Carriers (NVOCCs) are all examples of carriers.

* * * * *

Commercial loading document. A document that establishes the terms of a contract between a shipper and a transportation company under which freight is to be moved between points for a specific charge. It is usually prepared by the shipper, the shipper's agent or the carrier and serves as a contract of carriage. Examples of commercial loading documents include the air waybill, ocean bill of lading, truck bill, rail bill of lading, and U.S. Postal Service customs declaration form.

* * * * *

Container. The term container shall mean an article of transport equipment (lift-van, movable tank or other similar structure):

(i) Fully or partially enclosed to constitute a compartment intended for containing goods;

(ii) Of a permanent character and accordingly strong enough to be suitable for repeated use;

(iii) Specially designed to facilitate the carriage of goods, by one or more modes of transport, without intermediate reloading;

(iv) Designed for ready handling, particularly when being transferred from one mode of transport to another;

(v) Designed to be easy to fill and to empty; and

(vi) Having an internal volume of one cubic meter or more; the term “container” shall include the accessories and equipment of the container, appropriate for the type concerned, provided that such accessories and equipment are carried with the container. The term “container” shall not include vehicles, accessories or spare parts of vehicles, or packaging. Demountable bodies are to be treated as containers.

* * * * *

Domestic goods. Goods that are grown, produced, or manufactured in the United States, or previously imported goods that have undergone substantial transformation in the United States, including changes made in a U.S. FTZ, from the form in which they were imported, or that have been substantially enhanced in value or improved in condition by further processing or manufacturing in the United States.

* * * * *

Electronic Export Information (EEI). The electronic export data as filed in the AES. This is the electronic equivalent of the export data formerly collected on the Shipper's Export Declaration (SED) and now mandated to be filed through the AES or AESDirect.

* * * * *

Fatal error message. An electronic response sent to the filer by the AES when invalid or missing data has been encountered, the EEI has been rejected, and the information is not on file in the AES.

Filer. The USPPI or authorized agent (of either the USPPI or FPPI) who has been approved to file EEI.

* * * * *

Foreign goods. Goods that were originally grown, produced, or manufactured in a foreign country, then subsequently entered into the United States, admitted to a U.S. FTZ, or entered into a CBP bonded warehouse, but not substantially transformed in form or condition by further processing or manufacturing in the United States, U.S. FTZs, Puerto Rico, or the U.S. Virgin Islands.

* * * * *

Proof of filing citation. A notation on the bill of lading, air waybill, export shipping instructions, other commercial loading document or electronic equivalent, usually for carrier use, that provides evidence that the EEI has been filed and accepted in the AES.

* * * * *

Service center. A company, entity, or organization that has been certified and approved to facilitate the transmission of EEI to the AES.

* * * * *

Shipment Reference Number (SRN). A unique identification number assigned to the shipment by the filer for reference purposes. The reuse of the SRN is prohibited.

* * * * *

Split shipment. A shipment covered by a single EEI record booked for export on one conveyance, that is divided by the exporting carrier prior to export where the cargo is sent on two or more of the same conveyances of the same carrier leaving from the same port of export within 24 hours by vessel or 7 days by air, truck or rail.

* * * * *

Transportation Reference Number (TRN). A reservation number assigned by the carrier to hold space on the carrier for cargo being shipped. It is the booking number for vessel shipments, the master air waybill number for air shipments, the bill of lading number for rail shipments, and the freight or pro bill for truck shipments.

* * * * *

U.S. Postal Service customs declaration form. The shipping document, or its electronic equivalent, that a mailer prepares to declare the contents for the purposes of domestic and foreign customs authorizations and other relevant government agencies. For more information, please see Mailing Standards of the United States Postal Service, International Mail Manual, section 123.

* * * * *

3. Amend § 30.2 by revising paragraphs (a)(1)(iv)(A), (a)(1)(iv)(C), Note to paragraph (a)(1)(iv), (b)(3), and (c) to read as follows:

§ 30.2 General requirements for filing Electronic Export Information (EEI).

(a) * * *

(1) * * *

(iv) * * *

(A) Requiring a Department of Commerce, Bureau of Industry and Security (BIS) license or requiring reporting under the Export Administration Regulations (15 CFR 758.1(b)).

* * * * *

(C) Subject to the ITAR, but exempt from license requirements, except as noted by the ITAR.

* * * * *

Note to Paragraph (a)(1)(iv): For the filing requirement for exports destined for a country in Country Group E:1 or E:2 as set forth in the Supplement No. 1 to 15 CFR part 740, see FTR § 30.16.

* * * * *

(b) * * *

(3) The AES downtime procedures provide uniform instructions for processing export transactions when the government's AES or AESDirect is unavailable for transmission. (See § 30.4(b)(1) and (4)).

* * * * *

(c) Application and certification process. The USPPI or authorized agent will either submit an ACE Exporter Account Application or a Letter of Intent based on their transmission method and, as a result, may be subject to the certification process.

(1) AESDirect. USPPIs or authorized agents who choose to file via the AESDirect shall complete an online ACE Exporter Account Application. In addition, once the ACE Exporter Account is created, all users must agree to the AES Certification Statements prior to filing through AESDirect.

(2) Methods other than AESDirect. USPPIs or authorized agents who choose to file by a means other than AESDirect shall submit a Letter of Intent to CBP and may be required to complete the certification process.

(i) Certification. A two-part communication test to ascertain whether the system is capable of both transmitting data to and receiving responses from the AES. CBP client representatives make the sole determination as to whether or not the system of the self-programming filer, service center, or software vendor passes certification.

(ii) Parties requiring certification:

(A) Self-programming USPPIs or authorized agents;

(B) Service centers; and

(C) Software vendors who develop AES software.

* * * * *

4. Amend § 30.3 by revising the introductory text of paragraph (e)(2) and adding paragraph (e)(2)(xv) to read as follows:

§ 30.3 Electronic Export Information filer requirements, parties to export transactions, and responsibilities of parties to export transactions.

* * * * *

(e) * * *

(2) Authorized agent responsibilities. In a routed export transaction, if an authorized agent is preparing and filing the EEI on behalf of the FPPI, the authorized agent must obtain a power of attorney or written authorization from the FPPI and prepare and file the EEI based on information obtained from the USPPI or other parties involved in the transaction. The authorized agent shall be responsible for filing EEI accurately and timely in accordance with the FTR. Upon request, the authorized agent will provide the USPPI with a copy of the power of attorney or written authorization from the FPPI. The authorized agent shall also retain documentation to support the EEI reported through the AES. The authorized agent shall upon request, provide the USPPI with the data elements in paragraphs (e)(1)(i) through (xii) of this section, the date of export as submitted through the AES, the filer name, and the ITN. The authorized agent shall provide the following information through the AES:

* * * * *

(xv) Ultimate consignee type.

* * * * *

5. Amend § 30.4 by revising paragraphs (b)(2)(v), (b)(3) and (c) to read as follows:

§ 30.4 Electronic Export Information filing procedures, deadlines, and certification statements.

* * * * *

(b) * * *

(2) * * *

(v) For mail, the USPPI or the authorized agent shall file the EEI as required by § 30.6 and provide the proof of filing citation, postdeparture filing citation, AES downtime filing citation, exemption or exclusion legend to the U.S. Postal Service no later than two (2) hours prior to exportation.

* * * * *

(3) For shipments between the United States and Puerto Rico, the USPPI or authorized agent shall provide the proof of filing citation, postdeparture filing citation, AES downtime filing citation, exemption or exclusion legend to the exporting carrier by the time the shipment arrives at the port of unloading.

* * * * *

(c) EEI transmitted postdeparture—(1) Postdeparture filing procedures. Postdeparture filing is only available for approved USPPIs. For all methods of transportation other than pipeline, approved USPPIs or their authorized agent may file data elements required in accordance with § 30.6 no later than five (5) calendar days after the date of exportation, except for shipments where predeparture filing is specifically required.

(2) Pipeline filing procedures. USPPIs or authorized agents may file data elements required by § 30.6 no later than four (4) calendar days following the end of the month. The operator of a pipeline may transport goods to a foreign country without the prior filing of the proof of filing citation, exemption, or exclusion legend, on the condition that within four (4) calendar days following the end of each calendar month the operator will deliver to the CBP Port Director the proof of filing citation, exemption, or exclusion legend covering all exports through the pipeline to each consignee during the month.

* * * * *

6. Amend § 30.5 by revising the section heading, removing the introductory text, removing and reserving paragraphs (a) and (b), removing paragraph (d)(3), and revising paragraph (f) to read as follows:

§ 30.5 Electronic Export Information filing processes and standards.

(a) [Reserved]

(b) [Reserved]

* * * * *

(f) Support. The Census Bureau provides online services that allow the USPPI and the authorized agent to seek assistance pertaining to the AES and this part. For AES assistance, filers may send an email to ASKAES@census.gov. For FTR assistance, filers may send an email to itmd.askregs@census.gov.

7. Amend § 30.6 by revising the introductory text, paragraphs (a)(1) introductory text, (a)(1)(iii), (a)(1)(iv), (a)(5)(i), (a)(5)(ii), (a)(11), (a)(19), and (b)(14) introductory text, and adding paragraph (c)(3), to read as follows:

§ 30.6 Electronic Export Information data elements.

The information specified in this section is required for EEI transmitted to the AES. The data elements identified as “mandatory” shall be reported for each transaction. The data elements identified as “conditional” shall be reported if they are required for or apply to the specific shipment. The data elements identified as “optional” may be reported at the discretion of the USPPI or the authorized agent. Additional data elements may be required to be reported in the AES in accordance with other federal agencies' regulations. Refer to the other agencies' regulations for reporting requirements.

(a) * * *

(1) USPPI. The person or legal entity in the United States that receives the primary benefit, monetary or otherwise, from the export transaction. Generally, that person or entity is the U.S. seller, manufacturer, or order party, or the foreign entity while in the United States when purchasing or obtaining the goods for export. The name, address, identification number, and contact information of the USPPI shall be reported to the AES as follows:

* * * * *

(iii) USPPI identification number. Report the EIN or DUNS number of the USPPI. If the USPPI has only one EIN, report that EIN. If the USPPI has more than one EIN, report the EIN that the USPPI uses to report employee wages and withholdings, not an EIN used to report only company earnings or receipts. Use of another company's EIN is prohibited. The appropriate Party ID Type code shall be reported to the AES. If a foreign entity is in the United States at the time goods are purchased or obtained for export, the foreign entity is the USPPI. In such situations, when the foreign entity does not have an EIN, the authorized agent shall report a border crossing number, passport number, or any number assigned by CBP on behalf of the foreign entity.

(iv) USPPI contact information. The person who has the most knowledge regarding the specific shipment or related export controls.

* * * * *

(5) * * *

(i) Shipments under an export license. For shipments under an export license issued by the Department of State, Directorate of Defense Trade Controls (DDTC), or the Department of Commerce, Bureau of Industry and Security (BIS), the country of ultimate destination shall conform to the country of ultimate destination as shown on the license. In the case of a DDTC or BIS license, the country of ultimate destination is the country specified with respect to the end user, which may also be the ultimate consignee. For goods licensed by other government agencies, refer to the agencies' specific requirements for providing country of ultimate destination information.

(ii) Shipments not moving under an export license. The country of ultimate destination is the country known to the USPPI or U.S. authorized agent at the time of exportation. The country to which the goods are being shipped is not the country of ultimate destination if the USPPI or U.S. authorized agent has knowledge, at the time the goods leave the United States, that they are intended for reexport or transshipment in the form received to another known country. For goods shipped to Canada, Mexico, Panama, Hong Kong, Belgium, United Arab Emirates, The Netherlands, or Singapore, special care should be exercised before reporting these countries as the ultimate destinations because these are countries through which goods from the United States are frequently transshipped. If the USPPI or U.S. authorized agent does not know the ultimate destination of the goods, the country of ultimate destination to be shown is the last country, as known to the USPPI or U.S. authorized agent at the time the goods leave the United States, to which the goods are to be shipped in their present form. (For instructions as to the reporting of country of ultimate destination for vessels sold or transferred from the United States to foreign ownership, see § 30.26). In addition, the following types of shipments must be reported as follows:

(A) Department of State, DDTC, license exemption. The country of ultimate destination is the country specified with respect to the end user as noted in the ITAR (22 CFR 123.9(a)).

(B) Department of Commerce, BIS, license exception. The country of ultimate destination is the country of the end user as defined in 15 CFR 772.1 of the Export Administration Regulations (EAR).

(C) For shipments to international waters. The country of ultimate destination is the nationality of the person(s) or entity assuming control of the good(s) exported to international waters.

* * * * *

(11) Domestic or foreign indicator. Indicates if the goods exported are of domestic or foreign origin. Report foreign goods as a separate line item from domestic goods even if the commodity classification number is the same.

* * * * *

(19) Shipment Reference Number (SRN). A unique identification number assigned by the filer that allows for the identification of the shipment in the filer's system. The reuse of the SRN is prohibited.

* * * * *

(b) * * *

(14) Transportation Reference Number (TRN). The TRN is as follows:

* * * * *

(c) * * *

(3) Original ITN. The ITN associated with a previously filed shipment that is replaced or divided and for which additional shipment(s) must be filed. The original ITN field can be used in certain scenarios, such as, but not limited to, shipments sold en route or cargo split by the carrier where the succeeding parts of the shipment are not exported within the timeframes specified in § 30.28.

* * * * *

8. Amend 30.8 by revising paragraph (a) to read as follows:

§ 30.8 Time and place for presenting proof of filing citations and exemption legends.

* * * * *

(a) Mail exports. The proof of filing citation, postdeparture filing citation, AES downtime filing citation, exemption and/or exclusion legend for items exported by mail as required in § 30.4(b) shall be annotated on the appropriate U.S. Postal Service customs declaration form (and/or its electronic equivalent) and presented with the packages at the time of mailing. The Postal Service is required to deliver the proof of filing citation, postdeparture filing citation, AES downtime filing citation, exemption or exclusion legend prior to export.

* * * * *

§ 30.10 [Amended]

9. Amend § 30.10 by removing paragraphs (a)(1) and (2).

10. Amend § 30.16 by revising paragraph (d) to read as follows:

§ 30.16 Export Administration Regulations.

* * * * *

(d) A shipment destined for a country listed in Country Group E:1 or E:2 as set forth in Supplement No. 1 to 15 CFR part 740 shall require EEI filings regardless of value unless such shipment is eligible for an exemption in § 30.37(y) and does not require a license by BIS or any other Federal Government Agency.

* * * * *

11. Amend § 30.28 by revising the introductory text and paragraph (a); and removing paragraph (c) to read as follows:

§ 30.28 Split shipments.

A split shipment is a shipment covered by a single EEI record booked for export on one conveyance that is divided for shipment on more than one conveyance by the exporting carrier prior to export. The exporting carrier must file the manifest in accordance with CBP regulations indicating that the cargo was sent on two or more of the same type of conveyance of the same carrier leaving from the same port of export within 24 hours by vessel or 7 days by air, truck, or rail. For the succeeding parts of the shipment that are exported within the time frames specified above, a new EEI record will not be required. However, for the succeeding parts of the shipment that are not exported within the time frames specified above, a new EEI record must be filed and amendments must be made to the original EEI record. If a new EEI record is required, the original ITN data element may be used. The following procedures apply for split shipments:

(a) The carrier shall submit the manifest to the CBP Port Director with the manifest covering the conveyance on which the first part of the split shipment is exported and shall make no changes to the EEI. However, the manifest shall show in the “number of packages” column the actual portion of the declared total quantity being carried and shall carry a notation to indicate “Split Shipment” e.g., “3 of 10—Split Shipment.” All associated manifests with the notation “Split Shipment” will have identical ITNs if exported within 24 hours by vessel or 7 days by air, truck, or rail.

* * * * *

12. Amend § 30.29 by revising paragraphs (a)(1), (a)(2) and (b)(2) to read as follows:

§ 30.29 Reporting of repairs and replacements.

* * * * *

(a) * * *

(1) The return of goods not licensed by a U.S. Government agency and not subject to the ITAR, temporarily imported for repair and alternation, and declared as such on importation shall have Schedule B number 9801.10.0000. The value shall only include parts and labor. The value of the original product shall not be included. If the value of the parts and labor is over $2,500, then EEI must be filed.

(2) The return of goods licensed by a U.S. Government agency or subject to the ITAR, temporarily imported for repair or alteration, and declared as such on importation shall have Schedule B number 9801.10.0000. In the value field, report the value of the parts and labor. In the license value field, report the value designated on the export license that corresponds to the commodity being exported if required by the licensing agency. EEI must be filed regardless of value.

(b) * * *

(2) Goods that are replaced under warranty at no charge to the customer shall include the statement, “Product replaced under warranty, value for EEI purposes” on the bill of lading, air waybill, or other commercial loading documents. Place the notation below the proof of filing citation, postdeparture filing citation, AES downtime filing citation, exemption or exclusion legend on the commercial loading documents. Report the Schedule B number or Harmonized Tariff Schedule of the United States Annotated (HTSUSA) commodity classification number of the replacement parts. For goods not licensed by a U.S. Government agency, report the value of the replacement parts in accordance with § 30.6(a)(17). For goods licensed by a U.S. Government agency, report the value and license value in accordance with § 30.6(a)(17) and § 30.6(b)(15) respectively.

13. Amend § 30.36 by revising paragraph (b)(4) to read as follows:

§ 30.36 Exemption for shipments destined to Canada.

* * * * *

(b) * * *

(4) Requiring a Department of Commerce, Bureau of Industry and Security, license or requiring reporting under the Export Administration Regulations (15 CFR 758.1(b)).

* * * * *

14. Amend § 30.37 by revising paragraphs (y) introductory text, (y)(5), and (y)(6) to read as follows:

§ 30.37 Miscellaneous exemptions.

* * * * *

(y) The following types of shipments destined for a country listed in Country Group E:1 or E:2 as set forth in Supplement No. 1 to 15 CFR part 740 are not required to be filed in the AES:

* * * * *

(5) Vessels and aircraft lawfully leaving the United States for temporary sojourn to or in a Country Group E:1 or E:2 country under License Exception AVS (15 CFR 740.15).

(6) Tools of trade that will be used by a person traveling to a Country Group E:1 or E:2 destination, that will be returned to the United States within one year and that are lawfully being exported to a Country Group E:1 or E:2 destination under License Exception BAG (15 CFR 740.14) or License Exception TMP (15 CFR 740.9(a)).

15. Revise the heading of subpart E to read as follows:

Subpart E—Manifest Requirements

16. Amend § 30.45 by revising the section heading, paragraphs (a) introductory text, (a)(1) introductory text and (b); removing and reserving paragraph (a)(2) and (3), and removing paragraphs (c) through (f); to read as follows:

§ 30.45 Manifest requirements.

(a) File the manifest in accordance with Customs and Border Protections (CBP) regulations.

(1) Vessels. Vessels transporting goods as specified shall file a complete manifest, or electronic equivalent.

* * * * *

(2) [Reserved]

(3) [Reserved]

* * * * *

(b) Exempt items. For any item for which EEI is not required by the regulations in this part, a notation on the manifest shall be made by the carrier as to the basis for the exemption. In cases where a manifest is not required and EEI is not required, an oral declaration to the CBP Port Director shall be made as to the basis for the exemption.

§§ 30.46—30.47 [Removed and Reserved]

17. Remove and reserve §§ 30.46 and 30.47.

18. Amend § 30.50 by revising the introductory text to read as follows:

§ 30.50 General requirements for filing import entries.

Electronic entry summary filing through the Automated Commercial Environment (ACE), paper import entry summaries (CBP-7501), or paper record of vessel foreign repair or equipment purchase (CBP-226) shall be completed by the importer of record or its licensed customs broker and filed directly with CBP in accordance with 19 CFR parts 1-199. Information on all mail and informal entries required for statistical and CBP purposes shall be reported, including value not subject to duty. Upon request, the importer of record or the importer's licensed customs broker shall provide the Census Bureau with information or documentation necessary to verify the accuracy of the reported information, or to resolve problems regarding the reported import transaction received by the Census Bureau.

* * * * *

19. Revise § 30.53 to read as follows:

§ 30.53 Import of goods returned for repair.

Import entries covering U.S. goods imported temporarily to be repaired, altered, or processed under Harmonized Tariff Schedule of the United States Annotated (HTSUSA) commodity classification code 9801.00.1012, and foreign goods imported temporarily to be repaired or altered under the HTSUSA commodity classification code 9813.00.0540 are required to show the following statement: “Imported for Repair and Reexport” on CBP Form 7501 or its electronic equivalent. When the goods are subsequently exported, file according to the instructions provided in § 30.29.

20. Amend § 30.74 by revising paragraph (c)(5) to read as follows:

§ 30.74 Voluntary self-disclosure.

* * * * *

(c) * * *

(5) Where to make voluntary self-disclosures. With the exception of voluntary disclosures of manifest violations under paragraph (c) of this section, the information constituting a Voluntary Self-Disclosure or any other correspondence pertaining to a Voluntary Self-Disclosure may be submitted to: Chief, International Trade Management Division, U.S. Census Bureau, 4600 Silver Hill Road, Washington, DC 20233. Additional instructions are found at www.census.gov/trade.

* * * * *

Appendix B to Part 30 [Removed]

21. Remove Appendix B.

22. Redesignate Appendix D as new Appendix B and revise it to read as follows:

Appendix B to Part 30—AES Filing Citation, Exemption and Exclusion Legends

I. Proof of Filing Citation | AES ITN. Example: AES X20170101987654.
II. Postdeparture Citation—USPPI USPPI is filing the EEI | AESPOST USPPI EIN Date of Export (mm/dd/yyyy). Example: AESPOST 12345678912 01/01/2017.
III. Postdeparture Citation—Agent Agent is filing the EEI | AESPOST USPPI EIN—Filer ID Date of Export (mm/dd/yyyy). Example: AESPOST 12345678912—987654321 01/01/2017.
IV. AES downtime Filing Citation—Use only when AES or AESDirect is unavailable | AESDOWN Filer ID Date of Export (mm/dd/yyyy). Example: AESDOWN 123456789 01/01/2017.
V. Exemption for Shipments to Canada | NOEEI § 30.36.
VI. Exemption for Low-Value Shipments | NOEEI § 30.37(a).
VII. Miscellaneous Exemption Statements are found in 15 CFR part 30 subpart D § 30.37(b) through § 30.37(y) | NOEEI § 30.37 (site corresponding alphabet).
VIII. Special Exemption for Shipments to the U.S. Armed Forces | NOEEI § 30.39.
IX. Special Exemptions for Certain Shipments to U.S. Government Agencies and Employees (Exemption Statements are found in 15 CFR part 30 subpart D § 30.40(a) through § 30.40(d) | NOEEI § 30.40 (site corresponding alphabet).
X. Miscellaneous Exclusion Statements are found in 15 CFR part 30 subpart A § 30.2(d) | NOEEI § 30.2(d) (site corresponding number).
XI. Split Shipments Split Shipments should be referenced as such on the manifest in accordance with provisions contained in § 30.28, Split Shipments. The notation should be easily identifiable on the manifest. It is preferable to include a reference to a split shipment in the exemption statements cited in the example, the notation SS should be included at the end of the appropriate exemption statement | AES ITN SS. Example: AES X20170101987654 SS.

Appendices C, E, and F [Removed]

23. Remove Appendices C, E, and F.

Dated: April 10, 2017.
John H. Thompson,
Director, Bureau of the Census.

[FR Doc. 2017-07646 Filed 4-18-17; 8:45 am]

BILLING CODE 3510-07-P